FEDERAL DEPOSIT INSURANCE CORPORATON

Agency Information Collection Activities: Submission for OMB Review; Comment Request; 3064-0022, 27, 29 & 61

AGENCY: Federal Deposit Insurance Corporation (FDIC).

ACTION: Notice of information collections to be submitted to OMB for review and approval under the Paperwork Reduction Act of 1995.

SUMMARY: In accordance with requirements of the Paperwork Reduction Act of 1995 (44 U.S.C. 3501 et seq.), the FDIC hereby gives notice that it is submitting to the Office of Management and Budget (OMB) a request for OMB review and approval of the information collection systems described below.

DATES: Comments must be submitted on or before September 12, 2005.

ADDRESSES: Interested parties are invited to submit written comments on the collections of information entitled: (1) Uniform Application/Uniform Termination for Municipal Securities Principal or Representative (3064-0022); (2) Request for Deregistration for Registered Transfer Agents (3064-0027); (3) Notification of Performance of Bank Services (3064-0029); and (4) Summary of Deposits (3064-0061).

All comments should refer to the name and number of the collection. Comments may be submitted by any of the following methods:

• http://www.FDIC.gov/regulations/laws/federal/propose.html.

• E-mail: comments@fdic.gov. Include the name and number of the collection in the subject line of the message.

• Mail: Gary A. Kuiper (202.942.3824), Counsel, Federal Deposit Insurance Corporation, PA1730-3000, 550 17th Street, NW., Washington, DC 20429.

• Hand Delivery: Comments may be hand-delivered to the guard station at the rear of the 550 17th Street Building (located on F Street), on business days between 7 a.m. and 5 p.m.

A copy of the comments may also be submitted to the OMB desk officer for the FDIC: Mark Menchik, Office of Information and Regulatory Affairs, Office of Management and Budget, New Executive Office Building, Room 10235, Washington, DC 20503.

FOR FURTHER INFORMATION CONTACT: Gary A. Kuiper, at the address identified above.

SUPPLEMENTARY INFORMATION: Proposal to renew the following currently approved collections of information:

1. Title: Uniform Application/Uniform Termination for Municipal Securities Principal or Representative.

OMB Number: 3064-0022. This OMB Number covers the following forms:

Uniform Application for Municipal Securities Principal or Municipal Securities Representative Associated with a Bank Municipal Securities Dealer Form MSD-4.

Uniform Termination Notice for Municipal Securities Principal or Municipal Securities Representative Associated with a Bank Municipal Securities Dealer Form MSD-5.

Frequency of Response: On occasion.

Affected Public: Business or other financial institutions.

Estimated Number of Respondents: 75.

Estimated Time per Response: 1 hour.

Total Annual Burden: 75 hours.

General Description of Collection: An insured state nonmember bank that serves as a municipal securities dealer must file Form MSD-4 or MSD-5, as applicable, to permit an employee to become associated or to terminate the association with the municipal securities dealer. FDIC uses the form to ensure compliance with the professional requirements for municipal securities dealers in accordance with the rules of the Municipal Securities Rulemaking Board.

2. Title: Request for Deregistration for Registered Transfer Agents.

OMB Number: 3064-0027.

Form: Request for Deregistration, Registered Transfer Agent FDIC Form 6342/12.

Frequency of Response: On occasion.

Affected Public: Business or other financial institutions.

Estimated Number of Respondents: 15.

Estimated Time per Response: .42 hours.

Total Annual Burden: 6.3 hours.

General Description of Collection: An insured nonmember bank or a subsidiary of such a bank that functions as a transfer agent may withdraw from registration as a transfer agent by filing a written notice of withdrawal with the FDIC as provided by 12 CFR 341.5.

3. Title: Notification of Performance of Bank Services.

OMB Number: 3064-0029.

Form: Notification of Performance of Bank Services FDIC Form 6120/06.

Frequency of Response: On occasion.

Affected Public: Business or other financial institutions.

Estimated Number of Respondents: 412.

Estimated Time per Response: .5 hours.

Total Annual Burden: 206 hours.

General Description of Collection: Insured state nonmember banks are required to notify the FDIC, under section 7 of the Bank Service Corporation Act (12 U.S.C. 1867), of the relationship with a bank service corporation. Form FDIC 6120/06 (Notification of Performance of Bank Services) may be used by banks to satisfy the notification requirement.

4. Title: Summary of Deposits.

OMB Number: 3064-0061.

Form: Summary of Deposits FDIC Form 8020/05.

Frequency of Response: Annually.

Affected Public: All insured financial institutions.

Estimated Number of Respondents: 6,000.

Average Estimated Time per Response: 3 hours.

Total Annual Burden: 18,000 hours.

General Description of Collection: The Summary of Deposits annual survey obtains data about the amount of deposits held at each office of all insured banks with branches in the United States. The survey data provides a basis for measuring the competitive impact of bank mergers and has additional use in banking research.

Request for Comment

Comments are invited on: (a) Whether these collections of information are necessary for the proper performance of the FDIC's functions, including whether the information has practical utility; (b) the accuracy of the estimate of the burden of the information collections, including the validity of the methodology and assumptions used; (c) ways to enhance the quality, utility, and clarity of the information to be collected; and (d) ways to minimize the burden of the information collections on respondents, including through the use of automated collection techniques or other forms of information technology. All comments will become a matter of public record.

Dated at Washington, DC, this 8th day of August 2005.
Federal Deposit Insurance Corporation.
Robert E. Feldman,
Executive Secretary.

[FR Doc. 05-15964 Filed 8-11-05; 8:45 am]

BILLING CODE 6714-01-P